DEPARTMENT OF TRANSPORTATION

Federal Railroad Administration

[Docket Number FRA-2025-0261]

Notice of Petition for Waiver of Compliance

AGENCY: Federal Railroad Administration (FRA), Department of Transportation (DOT).

ACTION: Notice.

SUMMARY: This document provides the public notice that American Heritage Railways (AHR), on behalf of Durango & Silverton Narrow Gauge Railroad, Great Smoky Mountains Railroad, and Branson Scenic Railway (together, the Railroads), petitioned FRA for relief from certain regulations concerning injury and illness reporting and recordkeeping.

DATES: FRA must receive comments on the petition by October 6, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Arnoldo Gonzalez, Railroad Safety Specialist, FRA Incident Management, Accident Reporting, and Analysis Division, telephone: 816-206-4809, email: arnoldo.gonzalez@dot.gov.

SUPPLEMENTARY INFORMATION: Under part 211 of title 49 Code of Federal Regulations (CFR), this document provides the public notice that by letter dated June 23, 2025, AHR petitioned FRA for a waiver of compliance from certain provisions of the Federal railroad safety regulations contained at 49 CFR part 225 (Railroad Accidents/Incidents: Reports Classification, and Investigations). FRA assigned the petition Docket Number FRA-2025-0261.

Specifically, AHR seeks relief from 49 CFR 225.25(h), Recordkeeping, to post its monthly listings of all injuries and occupational illnesses online instead of physically on paper. AHR explains that it maintains a companywide software system called Paycom that allows employees to access and review information from computers and mobile devices. Under its proposal, AHR would post, and update, a digital listing of injuries and illnesses, generated by individual railroad, on Paycom. AHR notes that employees would receive an “electronic notification of a change or addition to the Documents/Company Resources” section in Paycom and that they may request a copy of the logs from their supervisor. In support of the request, AHR states that the relief would greatly enhance its employees' ability to access the monthly listings.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by October 6, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-16938 Filed 9-3-25; 8:45 am]

BILLING CODE 4910-06-P